DEPARTMENT OF STATE

[Public Notice: 12341]

30-Day Notice of Proposed Information Collection: Two (2) Passport Services Information Collections: Supplemental Questionnaire To Determine Entitlement for a U.S. Passport and Supplemental Questionnaire To Determine Identity for a U.S. Passport

ACTION: Notice of request for public comment and submission to the Office of Management and Budget (OMB) for the proposed collection of information.

SUMMARY: The Department of State has submitted the information collections described below to the Office of Management and Budget (OMB) for approval. In accordance with the Paperwork Reduction Act of 1995, we are requesting comments on these collections from all interested individuals and organizations. The purpose of this Notice is to allow 30 days for public comment.

DATES: The Department will accept comments from the public up to April 3, 2024.

ADDRESSES: Written comments and recommendations for the proposed information collection should be sent within 30 days of publication of this notice to: www.reginfo.gov/public/do/PRAMain. Find this information collection by selecting “Currently under 30-day Review—Open for Public Comments” or by using the search function. You must include the DS form number, information collection title, and the OMB control number in any correspondence (if applicable). You may send requests for additional information regarding the collection listed in this notice, including requests for copies of the proposed collection instrument and supporting documents, to the following email address: Passport-Form-Comments@State.gov. You must include the DS form number and information collection title in the email subject line.

SUPPLEMENTARY INFORMATION:

• Title of Information Collection: Supplemental Questionnaire to Determine Entitlement for a U.S. Passport.

• OMB Control Number: 1405-0214.

• Type of Request: Revision of a Currently Approved Collection.

• Originating Office: Bureau of Consular Affairs, Passport Services.

• Form Number: DS-5513.

• Respondents: United States Citizens and Non-citizen Nationals.

• Estimated Number of Respondents: 760.

• Estimated Number of Responses: 760.

• Average Time per Response: 85 minutes.

• Total Estimated Burden Time: 1,080 hours per year.

• Frequency: On occasion.

• Obligation to Respond: Required to Obtain a Benefit.

• Title of Information Collection: Supplemental Questionnaire to Determine Identity for a U.S. Passport.

• OMB Control Number: 1405-0215.

• Type of Request: Revision of a Currently Approved Collection.

• Originating Office: Bureau of Consular Affairs, Passport Services.

• Form Number: DS-5520.

• Respondents: United States Citizens and Non-citizen Nationals.

• Estimated Number of Respondents: 10,000.

• Estimated Number of Responses: 10,000.

• Average Time per Response: 45 minutes.

• Total Estimated Time Burden: 7,500 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collections

1405-0214, DS-5513, Supplemental Questionnaire to Determine Entitlement for a U.S. Passport: The primary purpose for soliciting this information is to establish entitlement for a U.S. Passport Book or Passport Card. The information may also be used in connection with issuing other travel documents or evidence of citizenship, and in furtherance of the Secretary's responsibility for the protection of U.S. nationals abroad and to administer the passport program.

• 1405-0215, DS-5520, Supplemental Questionnaire to Determine Identity for a U.S. Passport: The primary purpose for soliciting this information is to establish identity for a U.S. Passport Book or Passport Card. The information may also be used in connection with issuing other travel documents or evidence of citizenship, and in furtherance of the Secretary's responsibility for the protection of U.S. nationals abroad and to administer the passport program.

Methodology

The Supplemental Questionnaire to Determine Entitlement for a U.S. Passport is used to supplement an existing passport application and solicits information relating to the respondent's family and birth circumstances that is needed prior to passport issuance. If the information on form DS-5513 is needed, a passport agency will mail the form directly to the applicant for completion and return or the applicant can download and complete a fillable PDF version found at travel.state.gov.

The Supplemental Questionnaire to Determine Identity for a U.S. Passport is used to supplement an existing passport application and solicits information relating to the respondent's identity that is needed prior to passport issuance. If the information on form DS-5520 is needed, a passport agency will mail the form directly to the applicant for completion and return or the applicant can download and complete a fillable PDF version found at travel.state.gov.

Amanda E Smith,
Managing Director for Passport Support Operations, Bureau of Consular Affairs, Passport Services, Department of State.

[FR Doc. 2024-04522 Filed 3-1-24; 8:45 am]

BILLING CODE 4710-06-P